DEPARTMENT OF LABOR

Occupational Safety and Health Administration

[Docket No. OSHA-2009-0025]

Underwriters Laboratories, Inc.: Application for Expansion

AGENCY: Occupational Safety and Health Administration (OSHA), Labor.

ACTION: Notice.

SUMMARY: In this notice, OSHA announces the application of Underwriters Laboratories, Inc., for expansion of its recognition as a Nationally Recognized Testing Laboratory and presents the Agency's preliminary finding to grant the application and request. Underwriters Laboratories, Inc., requests the addition of multiple test standards to its scope of recognition. This preliminary finding does not constitute an interim or temporary approval of the application and request.

DATES: Submit comments, information, and documents in response to this notice, or requests for an extension of time to make a submission, on or before December 20, 2013. All submissions must bear a postmark or provide other evidence of the submission date.

ADDRESSES:

Electronically: Tender submissions electronically to the Federal eRulemaking Portal at http://www.regulations.gov. Follow the instructions online for making electronic submissions.

Facsimile: If submissions, including attachments, are not longer than 10 pages, commenters may fax them to the OSHA Docket Office at (202) 693-1648.

Regular or express mail, hand delivery, or messenger (courier) service: Tender submissions to the OSHA Docket Office, Docket No. OSHA-2009-0025, Technical Data Center, U.S. Department of Labor, 200 Constitution Avenue NW., Room N-2625, Washington, DC 20210; telephone: (202) 693-2350 (TTY number: (877) 889-5627). Note that security procedures may result in significant delays in receiving submissions sent by regular mail. Contact the OSHA Docket Office for information about security procedures concerning delivery of materials by regular or express mail, hand delivery, or messenger (courier) service. The hours of operation for the OSHA Docket Office are 8:15 a.m.-4:45 p.m., e.t.

Instructions: All submissions must include the Agency name and the docket number for this notice (OSHA-2009-0025). OSHA places comments and other materials, including any personal information, in the public docket without revision, and these materials may be available online at http://www.regulations.gov. Therefore, the Agency cautions commenters about submitting statements they do not want made available to the public, or submitting comments that contain personal information (either about themselves or others) such as Social Security numbers, birth dates, and medical data.

Docket: To read or download submissions or other material in the docket, go to http://www.regulations.gov or to the OSHA Docket Office at the address above. All documents in the docket are listed in the http://www.regulations.gov index; however, some information (e.g., copyrighted material) is not publicly available to read or download through this Web site. All submissions, including copyrighted material, are available for inspection and copying at the OSHA Docket Office.

FOR FURTHER INFORMATION CONTACT: Information regarding this notice is available from the following sources:

Press inquiries: Contact Mr. Frank Meilinger, Director, OSHA Office of Communications, U.S. Department of Labor, 200 Constitution Avenue NW., Room N-3647, Washington, DC 20210; telephone: (202) 693-1999; email: Meilinger.francis2@dol.gov.

General and technical information: Contact David Johnson, Director, Office of Technical Programs and Coordination Activities, Directorate of Technical Support and Emergency Management, Occupational Safety and Health Administration, U.S. Department of Labor, 200 Constitution Avenue NW., Room N-3655, Washington, DC 20210; telephone: (202) 693-2110; email: johnson.david.w@dol.gov. OSHA's Web page includes information about the NRTL Program (see http://www.osha.gov/otpca/nrtl/index.html).

Copies of the Federal Register notice: Electronic copies of this Federal Register notice are available at http://www.regulations.gov. This Federal Register notice, as well as other relevant information, is also available on OSHA's Web page at http://www.osha.gov.

SUPPLEMENTARY INFORMATION:

I. Notice of the Application for Expansion

The Occupational Safety and Health Administration (OSHA) is providing notice that Underwriters Laboratories, Inc., (UL) is applying for expansion of its current recognition as a Nationally Recognized Testing Laboratory (NRTL). UL requests the addition of multiple test standards to their NRTL scope of recognition.

OSHA recognition of an NRTL signifies that the organization meets the requirements specified in Title 29, Code of Federal Regulations, Section 1910.7 (29 CFR 1910.7). Recognition is an acknowledgment that the organization can perform independent safety testing and certification of the specific products covered within its scope of recognition, and is not a delegation or grant of government authority. Recognition enables employers to use products approved by the NRTL to meet OSHA standards that require product testing and certification.

The Agency processes applications by an NRTL for initial recognition and for an expansion or renewal of this recognition, following requirements in Appendix A to 29 CFR 1910.7. This appendix requires that the Agency publish two notices in the Federal Register in processing an application. In the first notice, OSHA announces the application and provides its preliminary finding. In the second notice, the Agency provides its final decision on the application. These notices set forth the NRTL's scope of recognition or modifications of that scope. OSHA maintains an informational Web page for each NRTL, including UL, which details the NRTL's scope of recognition. These pages are available from the OSHA Web site at http://www.osha.gov/dts/otpca/nrtl/index.html.

Each NRTL's scope of recognition has three elements: (1) The type of products the NRTL may test, with each type specified by its applicable test standard; (2) the recognized site(s) that has/have the technical capability to perform the product-testing and product-certification activities for test standards within the NRTL's scope; and (3) the supplemental program(s) that the NRTL may use. Each of these elements allows the NRTL to rely on other parties to perform activities necessary for product testing and certification.

UL currently has 34 facilities (sites) recognized by OSHA for product testing and certification, with its headquarters located at: Underwriters Laboratories Inc., 333 Pfingsten Road, Northbrook, IL 60062. A complete list of UL sites recognized by OSHA is available at http://www.osha.gov/dts/otpca/nrtl/ul.html.

II. General Background on the Application and Request

UL submitted an application, dated March 26, 2013 (Ex. 1: UL Application), to expand its recognition to include multiple additional test standards. The Office of Technical Programs and Coordination Activities (OTPCA) staff performed a comparability analysis and reviewed other pertinent information. OSHA did not perform any on-site reviews in relation to this application. The OTPCA staff determined that 23 of these standards are “appropriate test standards” within the meaning of 29 CFR 1910.7(c).

Table 1 below lists appropriate test standards found within UL's application for expansion for testing and certification of products under the NRTL Program.

Table 1—Proposed List of Appropriate Test Standards for Inclusion in UL's NRTL Scope of Recognition
Test standard | Test standard title
UL 60730-1 | Automatic Electrical Controls for Household and Similar Use, Part 1: General Requirements.
ANSI/UL 60730-2-2 | Automatic Electrical Controls for Household and Similar Use; Part 2 Particular Requirements for Thermal Motor Protectors.
UL 60730-2-14 | Automatic Electrical Controls for Household and Similar Use; Part 2: Particular Requirements for Electric Actuators.
ANSI/UL 1008A | Medium‐Voltage Transfer Switches.
ANSI/UL 61010-1 | Electrical Equipment for Measurement, Control, and Laboratory Use; Part 1: General Requirements.
ANSI/UL 61010-2-030 | Safety Requirements for Electrical Equipment for Measurement, Control, and Laboratory Use—Part 2-030: Particular Requirements for Testing and Measuring Circuits.
ANSI/UL 61010-031 | Electrical Equipment for Measurement, Control, and Laboratory Use; Part 031: Safety Requirements for Hand‐Held Probe Assemblies for Electrical Measurement and Test.
ANSI/UL 60950-1 | Information Technology Equipment Safety—Part 1: General Requirements.
ANSI/UL 60950-21 | Information Technology Equipment—Safety—Part 21: Remote Power Feeding.
ANSI/UL 60950-22 | Information Technology Equipment Safety—Part 22: Equipment to be Installed Outdoors.
ANSI/UL 60950-23 | Information Technology Equipment Safety—Part 23: Large Data Storage Equipment.
ANSI/UL 60947-4-1A | Low‐Voltage Switchgear and Controlgear—Part 4-1A: Contactors and Motor‐Starters—Electromechanical Contactors and Motor‐Starters.
ANSI/UL 2738 | Induction Power Transmitters and Receivers for Use with Low Energy Products.
ANSI/UL 1990 | Nonmetallic Underground Conduit with Conductors.
ANSI/UL 60947-5-2 | Low‐voltage Switchgear and Controlgear—Part 5-2: Control Circuit Devices and Switching Elements—Proximity Switches.
ANSI/UL 1691 | Single Pole Locking‐Type Separable Connectors.
ANSI/UL 61058-1 | Switches for Appliances—Part 1: General Requirements.
ANSI/UL 2108 | Low Voltage Lighting Systems.
ANSI/UL 60745-2-16 | Hand‐Held Motor‐Operated Electric Tools—Safety—Part 2-16: Particular Requirements for Tackers.
ANSI/UL 60745-2-22 | Hand‐Held Motor‐Operated electric Tools—Safety—Part 2-22: Particular Requirements for Cut‐Off Machines.
ANSI/UL 60335-2-3 | Household and Similar Electrical Appliances, Part 2: Particular Requirements for Electric Irons.
ANSI/UL 962A | Furniture Power Distribution Units.
ANSI/UL 2438 | Outdoor Seasonal‐Use Cord‐Connected Wiring Devices.

III. Preliminary Finding on the Application and Request

UL submitted an acceptable application for expansion of its scope of recognition. OSHA's review of the application file, and its comparability analysis, indicate that UL can meet the requirements prescribed by 29 CFR 1910.7 for expanding its recognition to include 23 test standards for NRTL testing and certification. This preliminary finding does not constitute an interim or temporary approval of UL's application and request.

OSHA welcomes public comment as to whether UL meets the requirements of 29 CFR 1910.7 for expansion of its recognition as an NRTL. Comments should consist of pertinent written documents and exhibits. Commenters needing more time to comment must submit a request in writing, stating the reasons for the request. Commenters must submit the written request for an extension by the due date for comments. OSHA will limit any extension to 10 days unless the requester justifies a longer period. OSHA may deny a request for an extension if it is not adequately justified. To obtain or review copies of the publicly available information in UL's application and request, including pertinent documents (e.g., exhibits) and all submitted comments, contact the Docket Office, Room N-2625, Occupational Safety and Health Administration, U.S. Department of Labor, at the above address; these materials also are available online at http://www.regulations.gov under Docket No. OSHA-2009-0025.

The OTPCA staff will review all comments to the docket submitted in a timely manner and, after addressing the issues raised by these comments, will recommend to the Assistant Secretary for Occupational Safety and Health whether to grant UL's application for expansion of its scope of recognition. The Assistant Secretary will make the final decision on granting the application and request. In making this decision, the Assistant Secretary may undertake other proceedings prescribed in Appendix A to 29 CFR 1910.7. OSHA will publish a public notice of this final decision in the Federal Register.

IV. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on December 2, 2013.
David Michaels,
Assistant Secretary of Labor for Occupational Safety and Health.

[FR Doc. 2013-29054 Filed 12-4-13; 8:45 am]

BILLING CODE 4510-26-P